DEPARTMENT OF HOMELAND SECURITY

Federal Emergency Management Agency

44 CFR Part 65

[Docket ID FEMA-2008-0020; Internal Agency Docket No. FEMA-B-1039]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and Case No. | Date and name of newspaper where notice was published | Chief executive officer of community | Effective date of modification | Community No.
Arizona:
Maricopa | Unincorporated areas of Maricopa County (09-09-0381P) | January 8, 2009; January 15, 2009; Arizona Business Gazette | The Honorable Andrew W. Kunasek, Chairman, Maricopa County Board of Supervisors, 301 West Jefferson Street, 10th Floor, Phoenix, AZ 85003 | May 15, 2009 | 040037
Maricopa | City of Tolleson (09-09-0381P) | January 8, 2009; January 15, 2009; Arizona Business Gazette | The Honorable Charles P. Hayes, Mayor, City of Tolleson, 9555 West Van Buren Street, Tolleson, AZ 85353 | May 15, 2009 | 040055
California:
Riverside | City of La Quinta (08-09-0307P) | January 10, 2008; January 17, 2008; The Press Enterprise | The Honorable Donald Adolph, Mayor, City of La Quinta, P.O. Box 1504, La Quinta, CA 92247 | December 18, 2007 | 060709
San Diego | City of San Diego (08-09-1767P) | January 23, 2009; January 30, 2009; San Diego Transcript | The Honorable Jerry Sanders, Mayor, City of San Diego, 202 C Street, 11th Floor, San Diego, CA 92101 | June 2, 2009 | 060295
Colorado:
Denver | City and County of Denver (08-08-0948P) | December 17, 2008; December 24, 2008; Rocky Mountain News | The Honorable John W. Hickenlooper, Mayor, City and County of Denver, 1437 Bannock Street, Suite 350, Denver, CO 80202 | December 9, 2008 | 080046
Indiana: Hamilton | Town of Fishers (08-05-0876P) | January 22, 2009; January 29, 2009; Noblesville Ledger | The Honorable Christine Altman, Hamilton County Board of Commissioners, One Hamilton County Square, Noblesville, IN 46060 | January 13, 2009 | 180423
Missouri: Phelps | City of Rolla (08-07-0803P) | October 10, 2008; October 16, 2008; Rolla Daily News | The Honorable William Jenks III, Mayor, City of Rolla, P.O. Box 979, Rolla, MO 65401 | February 20, 2009 | 290285
North Carolina: Iredell | Iredell County (Unincorporated Areas) (08-04-2756P) | January 7, 2009; January 14, 2009; Statesville Record & Landmark | Mr. Joel Mashburn, Manager, Iredell County, P.O. Box 788, Statesville, NC 28687 | May 14, 2009 | 370313
Ohio: Montgomery | Unincorporated areas of Montgomery County (08-05-2057P) | July 23, 2008; July 30, 2008; Englewood Independent | The Honorable Deborah A. Lieberman, County Commissioner, 451 West Third Street, 11th Floor, Dayton, OH 45422 | November 27, 2008 | 390775
Tennessee: Wilson | City of Mount Juliet (08-04-4369P) | January 9, 2009; January 16, 2009; Lebanon Democrat | The Honorable Linda C. Elam, Mayor, City of Mt. Juliet, P.O. Box 256, Mt. Juliet, TN 37121 | May 18, 2009 | 470290
Texas:
Ellis | City of Waxahachie (08-06-1778P) | October 1, 2008; October 8, 2008; Waxahachie Daily Light | The Honorable Ron Wilkinson, Mayor, City of Waxahachie, P.O. Box 757, Waxahachie, TX 75168-0757 | February 5, 2009 | 480211
Hays | City of Buda (07-06-1994P re-issues 0.6-06-B986P) | May 9, 2007; May 16, 2007; Hays County Free Press | The Honorable John Trube, Mayor, City of Buda, P. O. Box 1218, Buda, TX 78610 | August 15, 2007 | 481640
Hays | Unincorporated areas of Hays County (07-06-1994P re-issues 0.6-06-B986P) | May 9, 2007; May 16, 2007; Hays County Free Press | The Honorable Jim Powers, Hays County Judge, 111 East San Antonio Street, Suite 300, San Marcos, TX 78666 | August 15, 2007 | 480321

(Catalog of Federal Domestic Assistance No. 97.022, “Flood Insurance.”)

Dated: February 25, 2009.
Michael K. Buckley,
Acting Assistant Administrator, Mitigation Directorate, Department of Homeland Security, Federal Emergency Management Agency.

[FR Doc. E9-6676 Filed 3-24-09; 8:45 am]

BILLING CODE 9110-12-P